DEPARTMENT OF TRANSPORTATION

Federal Highway Administration

[Docket No. FHWA-2015-0007]

Agency Information Collection Activities: Request for Comments for Periodic Information Collection

SUMMARY: The FHWA has forwarded the information collection request described in this notice to the Office of Management and Budget (OMB) for approval of a new information collection. We published a Federal Register Notice with a 60-day public comment period on this information collection on February 19, 2015. We are required to publish this notice in the Federal Register by the Paperwork Reduction Act of 1995.

DATES: Please submit comments by May 28, 2015.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2015-0007.

FOR FURTHER INFORMATION CONTACT: Adella Santos, 202-366-5021, NHTS Program Manager, Federal Highway Administration, Office of Policy, 1200 New Jersey Avenue SE., Room E83-426, Washington, DC 20590, Monday through Friday, except Federal holidays.

SUPPLEMENTARY INFORMATION:

Title: 2015 National Household Travel Survey (NHTS).

Type of Request: New request for periodic information collection requirement.

Background: Title 23, United States Code, section 502 authorizes the USDOT to carry out advanced research and transportation research to measure the performance of the surface transportation systems in the US, including the efficiency, energy use, air quality, congestion, and safety of the highway and intermodal transportation systems. The USDOT is charged with the overall responsibility to obtain current information on national patterns of travel, which establishes a data base to better understand travel behavior, evaluate the use of transportation facilities, and gauge the impact of the USDOT's policies and programs.

The NHTS is the USDOT's authoritative nationally representative data source for daily passenger travel. This inventory of travel behavior reflects travel mode (e.g., private vehicles, public transportation, walk and bike) and trip purpose (e.g., travel to work, school, recreation, personal/family trips) by U.S. household residents. Survey results are used by federal and state agencies to monitor the performance and adequacy of current facilities and infrastructure, and to plan for future needs.

The collection and analysis of national transportation data has been of critical importance for nearly half a century. Previous surveys were conducted in 1969, 1977, 1983, 1990, 1995, 2001, and 2009. The current survey will be the eighth in this series, and allow researchers, planners, and officials at the state and federal levels to monitor travel trends.

Data from the NHTS are widely used to support research needs within the USDOT, and State and local agencies, in addition to responding to queries from Congress, the research community and the media on important issues. Current and recent topics of interest include:

• Travel to work patterns by transportation mode for infrastructure improvements and congestion reduction,

• Access to public transit, paratransit, and rail services by various demographic groups,

• Measures of travel by mode to establish exposure rates for risk analyses,

• Support for Federal, State, and local planning activities and policy evaluation,

• Active transportation by walk and bike to establish the relationship to public health issues,

• Vehicle usage for energy consumption analysis,

• Traffic behavior of specific demographic group such as Millennials and the aging population.

Within the USDOT, the Federal Highway Administration (FHWA) holds responsibility for technical and funding coordination. The National Highway Traffic Safety Administration (NHTSA), Federal Transit Administration (FTA), and the Bureau of Transportation Statistics (BTS) are also primary data users, and have historically participated in project planning and financial support.

Proposed Data Acquisition Methodology

NHTS data are collected from a stratified random sample of households that represent a broad range of geographic and demographic characteristics. Letters and a brief household survey are sent to selected households requesting some basic demographic and contact information and inviting them to participate in the survey. The recruitment surveys are returned in business reply envelopes to the survey contractor.

Participating households are subsequently sent a package containing travel logs for each member of the household age 5 and older. The household is assigned to record their travel on a specific day, and asked to note every trip taken during a 24 hour period. Based upon their preferences, the travel information is then reported either through the use of a survey Web site, or through a telephone interview.

Reminders are sent periodically to households who do not respond within the expected timeframe. Monetary incentives are included in each recruitment package, and are provided in increasing amounts for all households that complete the survey.

The survey will collect data during an entire 12 month period so that all 365 days of the year including weekends and holidays are accounted for. A total of 26,000 households will comprise the national sample for the 2015 survey. As described below, changes in the establishment of the sampling frame, the promotion of participation, and in data retrieval techniques are planned, as compared to previous surveys, to improve statistical precision, enhance response rates, and increase survey efficiency.

Issues Related to Sampling. In previous years, the household sample was identified using random digit dialing techniques. Today, only 59 percent ¹ have a landline telephone in the home (down from 75% during the 2009 NHTS) while over 80 percent of U.S. households have access to the Internet.² This survey will leverage this shift in technology, in particular the move away from home telephone usage, to structure a research design that uses web, mail, and telephone data collection modes.

¹ Blumberg, S.J., and Luke, J.V. (2014). Wireless substitution: Early release of estimates from the National Health Interview Survey, July-December 2013. National Center for Health Statistics. Available from http://www.cdc.gov/nchs/nhis.htm.

² Source: U.S. Census Bureau, Current Population Survey, Select Years, Internet Release date: January 2014.

The revised methodological approach starts with a national address-based sample (ABS), a change from the telephone-based random digit dialing (RDD) sample design used in recent NHTS efforts, while also incorporating core data elements that have been part of the NHTS since 1969.

The survey sample will be drawn from the ABS frame maintained by Marketing Systems Group (MSG). It originates from the U.S. Postal Service (USPS) Computerized Delivery Sequence file (CDS), and is updated on a monthly basis. MSG also provides the ability to match some auxiliary variables (e.g., race/ethnicity, education, household income) to a set of sampled addresses. MSG geocodes their entire ABS frame, so block-, block group-, and tract-level characteristics from the Decennial Census and the American Community Survey (ACS) may be appended to addresses and used for sampling and/or data collection purposes.

Sample Size. A sample size of 26,000 households will be included in the national sample. Assuming response rates of 30 percent for the recruitment stage, 65 percent for the retrieval stage, and a residency rate of 89 percent for sampled addresses, a total of 149,813 sampled addresses will be required to attain the targeted 26,000 responding households.

Stratification. This survey produces state-level estimates as well as national estimates. Assuming equal costs and population variances across states, the most efficient design for national estimates is one in which the sample is allocated to the states in proportion to the size of the civilian, noninstitutionalized population in each state, and the most efficient design for state-level estimates is one in which equal sample sizes are allocated to all states. Various allocation options for the national sample are being considered in order to arrive at a final allocation for the NHTS national sample.

With the ABS approach, identifying targeted areas (e.g., states) that correspond to those for which estimates can be developed from the NHTS data are straightforward. Addresses are definitively linked to states, so state-level estimation is routine. Geocoding and GIS processing can be used to link addresses to counties in a highly reliable fashion. There can be some ambiguity for addresses that are P.O. boxes or are listed as rural route addresses. These can be handled in a routine manner with a set of well-defined rules as such addresses will represent only a small proportion of a state's population. Thus, no important issues arise in the definition of areas with an ABS sample design that relies on mail for data collection, as is the case with the proposed approach.

Assignments for recording travel data by sampled households will be equally distributed across all days to ensure a balanced day of week distribution. The sample (of recruitment letters to households) will be released periodically through a process that will control the balance of travel days by month.

Data Collection Methods

An updated approach to enhancing survey response has been developed. This includes providing progressive monetary incentives, and using a mail-out/mail-back recruitment survey. This recruitment survey is designed to be relevant, aesthetically pleasing, and elicit participation by including topics of importance to the respondent. Upon returning the completed recruitment survey, each household member will be provided with personalized travel logs by mail, and offered the option of completing the retrieval survey by web using a unique personal identification number (PIN) or telephone interview.

Information Proposed for Collection

Recruitment. The survey will begin with mailing the sampled households a short recruitment survey designed to collect key household information (e.g. enumeration of household members), additional contact information (e.g. email address and telephone number). This recruitment survey includes some engaging travel-related opinion or experience questions considered to be highly relevant to the survey and interesting to respondents. The initial survey will be accompanied by a letter from the USDOT, and a Business Reply Envelope.

In the first mail contact, each sampled address will receive a $2 cash incentive. The second mail contact will include the travel log package sent to each recruited household and a $5 cash incentive and a promise of an additional $20 for successfully submitting their travel logs. The incentives paid will be tracked at each of the three levels offered.

To support the mail recruitment approach, the survey contractor will provide a toll-free number on survey materials and will assist the recruited participant to provide the required information by telephone if requested to do so by the participant. A survey Web site will be established for potential respondents who want to check on the authenticity of the survey or find out more information. This Web site will also serve as the portal to the survey.

All returned recruitment surveys will be processed using commercial off-the-shelf software (COTS) technology. All data collected in the recruitment survey will be used to populate the household record in the survey database. As part of the non-response protocol, non-responding households may also be provided the opportunity to recruit by web. If respondents call the help desk or use the web to complete, their responses are collected in the same survey database.

The mail back recruitment approach described here has been tested and found to be successful in several surveys funded by the Federal Government (e.g., the National Crime Victimization Survey); these surveys have proven this method can be implemented with large sample sizes covering vast geographic regions. This approach has been developed in response to declining recruitment rates in recent studies.

Retrieval. The NHTS data will be collected from respondents either from self-reporting via the web, or from professionally trained interviewers using a computer-assisted telephone interviewing (CATI) system. Either approach will be based upon a single database that allows for sophisticated branching and skip patterns to enhance data retrieval by asking only those questions that are necessary and appropriate for the individual participant. Look-up tables are included to assist with information such as vehicle makes and models. The Google map UI is used to assist in identifying specific place names and locations. The location data for the participant's home, workplace, or school are stored and automatically inserted in the dataset for trips after the first report. Household rostering is a list of all vehicles and persons in the household that allows a trip to be reported from one household member and can include another household member who travel together to be inserted into the record for the second person. This automatic insert of information reduces the burden of the second respondent to be queried about a trip already reported by the initial respondent.

Data range, consistency and edit checks are automatically programmed to reduce reporting error, survey length, and maintain the flow of information processing. Data cross checks also help reduce the burden by ensuring that the reporting is consistent within each trip.

Data retrieval is based upon materials provided to participants as shown below.

Travel Log Materials

Travel Log Packet. The travel log packet will include a letter, an exemplar log, and personalized travel logs for each age eligible person in the household, and will be sent using first class postage in a 6″ x 9″ envelope. The envelopes will be branded to match the letterhead used for the invitation letter. The second respondent incentive will be included with the travel logs. This $5 cash incentive is expected to serve as a “good faith” incentive to encourage completion of the retrieval survey.

Travel Log Letter. A household letter will be included in the travel log packet. The letter will further familiarize the participants with the travel recording stage, identify the households' travel date and provide details about when and how to complete the retrieval survey. The letter will also remind participants about the final $20 household incentive. Like the invitation letter, the travel log letter will be branded.

Travel Logs. A personalized travel log will be provided for each household member (ages 5 and older). The logs are intended to be a memory jogger to guide accurate data collection and aid in the reporting of each place visited on the travel day.

Exemplar Log. Participants will be provided with an exemplar log with the instructions for recording the details about the places visited on the travel day.

All web and computer assisted telephone interview (CATI) instruments will be reviewed for section 508 compliance using the rules specified in sections 1194.22—`Web-based intranet and internet information and applications' and 1194.23—`Telecommunications products.' All materials will be available in both English and Spanish language forms. Spanish translations will be developed using industry standards and will apply reverse-translation protocols.

Estimated Burden Hours for Information Collection

Frequency: This collection will be conducted every 5-7 years.

Respondents. A stratified random sample of 26,000 households across the 50 states and the District of Columbia will be included in the survey. Household will include an average of 2.5 members for a total of 65,000 individual respondents to the main survey.

Estimated Average Burden per Response. It will take approximately 5 minutes per household member to complete the recruitment data form, and 20 minutes to complete the retrieval survey. This results in a total of 25 minutes per household member.

Estimated Total Annual Burden Hours. It is estimated that a total of 65,000 persons will be included in the survey. This would result in approximately 27,083 hours of support for this data collection effort.

Public Comments Invited

You are asked to comment on any aspect of this information collection, including: (1) Whether the proposed collection of information is necessary for the USDOT's performance, including whether the information will have practical utility; (2) the data acquisition methods; (3) the accuracy of the USDOT's estimate of the burden of the proposed information collection; (4) the types of data being acquired; (5) ways to enhance the quality, usefulness, and clarity of the collected information; and (6) ways that the burden could be minimized without reducing the quality of the collected information. The agency will summarize and/or include your comments in the request for OMB's clearance of this information collection.

Authority: The Paperwork Reduction Act of 1995; 44 U.S.C. chapter 35, as amended; and 49 CFR 1.48.

Issued on: April 23, 2015.
Michael Howell,
Information Collection Officer, Federal Highway Administration.

[FR Doc. 2015-09852 Filed 4-27-15; 8:45 am]

BILLING CODE P